DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR Part 44 govern the application, processing, and disposition of petitions for modification. This notice is a summary of petitions for modification submitted to the Mine Safety and Health Administration (MSHA) by the parties listed below to modify the application of existing mandatory safety standards codified in Title 30 of the Code of Federal Regulations.

DATES: All comments on the petitions must be received by the Office of Standards, Regulations and Variances on or before July 15, 2013.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations and Variances, 1100 Wilson Boulevard, Room 2350, Arlington, Virginia 22209-3939, Attention: George F. Triebsch, Director, Office of Standards, Regulations and Variances. Persons delivering documents are required to check in at the receptionist's desk on the 21st floor. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2013-021-C.

Petitioner: Peabody Energy Company, 115 Grayson Lane, Eldorado, Illinois 62930.

Mine: Wildcat Hills Underground Mine, MSHA I.D. No. 11-03156, located in Saline County, Illinois.

Regulation Affected: 30 CFR 75.1909(b)(6) (Nonpermissible diesel-powered equipment; design and performance requirements).

Modification Request: The petitioner requests a modification of the existing standard to permit an alternative method of compliance with respect to the braking systems on the Getman RDG-1504S Road Builder. The petitioner proposes to operate the Road Builder, Serial Number 6760 as it was originally designed, without front brakes. The petitioner states that:

(1) The standard does not address equipment with more than four (4) wheels, specifically the Getman RDG-1504S Road Builder with six (6) wheels. This machine has dual brake systems on the four (4) rear wheels and is designed to prevent a loss of braking due to a single component failure.

(2) The speed of the machine will be limited to 10 miles per hour (mph) by permanently blocking out any gear that would provide higher speed or use transmission and differential ratios that would limit the maximum speed to 10 mph.

(3) Training will be provided for operators to recognize appropriate speeds for different road conditions and slopes.

(4) Training will be provided for operators to lower the grader blade to provide additional stopping capability.

(5) The safety of the miners will not be compromised if the machine is operated as described in paragraph #2.

(6) This RDG-1504S Road Builder has been approved under a previous petition for modification, Docket Number M-2004-047-C, when it was operated at the Arclar Willow Lake Portal Mine, MSHA I.D. No. 11-03054.

(7) The Getman Road Builder has been transferred to the Wildcat Hills Underground Mine.

The petitioner asserts that the proposed alternative method will guarantee the same measure of protection to the miners as the existing standard.

Docket Number: M-2013-022-C.

Petitioner: Paramont Coal Company Virginia, LLC, Three Gateway Center, Suite 1500, 401 Liberty Avenue, Pittsburgh, Pennsylvania 15222.

Mine: Deep Mine 41, MSHA I.D. No. 44-07223, located in Dickenson County, Virginia.

Regulation Affected: 30 CFR 75.1700 (Oil and gas wells).

Modification Request: The petitioner requests a modification of the existing standard to permit an alternative method of compliance for the standard with respect to gas wells. The petitioner proposes to plug vertically drilled gas wells in order to mine through them. The petitioner proposes to use the following alternative method when mining through vertically drilled degasification boreholes with horizontal laterals to permit mining through the boreholes:

(1) The petition will apply to all wells to be mined through located within the mineable reserve at Paramont Coal Company's Deep Mine 41.

(2) A safety barrier of 300 feet in diameter (150 between any mined area and a well) will be maintained around all wells (to include all active, inactive, abandoned, shut-in, and previously plugged oil and gas wells, and including water injection wells) until approval has been obtained from the District Manager (DM).

(3) Prior to mining within the safety barrier around any well that is intended to be mined through, the operator, will provide to the DM a certification from a company official stating that all mandatory procedures for cleaning out, preparing, and plugging each gas or oil well have been completed. The certification will be accompanied by all logs and any other records the DM may request.

The petitioner proposes to use the following procedures when cleaning out, preparing, plugging and replugging wells to the surface:

(1) The operator will pump expanding cement slurry down the well to form a plug which runs from at least 200 feet (400 feet if the total well depth is 4,000 feet or greater) below the base of the Jawbone Seam (or lower if required by the DM due to the geological strata, or due to the pressure within the well) to the surface. The expanding cement will be placed in the well under a pressure of at least 200 pounds per square inch. Portland cement or a lightweight cement mixture may be used to fill the area from 100 feet above the top of the Jawbone Seam (or higher if required by the DM due to the geological strata, or due to the pressure within the well) to the surface.

(2) A small quantity of steel turnings or other small magnetic particles will be embedded in the top of the cement near the surface to serve as a permanent magnetic monument of the well. An acceptable alternative monument can be achieved by using a 4½-inch or larger casing set in cement extending at least 36 inches above the ground level with the API well number either engraved or welded on the casing. When the hole cannot be marked with a physical monument (e.g., such as where it is located in prime farmland), high-resolution GPS coordinates (one-half meter resolution) will be used.

The petitioner proposes to use the following procedures when plugging wells with mechanical bridge plugs or cap seal plugs:

(1) If the total depth of the well is less than 4,000 feet, a diligent effort will be made to clean the borehole to a depth that would permit the placement of a minimum of 200 feet of expanding cement below the Jawbone Seam unless the DM requires cleaning to a greater depth due to the geological strata, or due to the pressure within the well (the operator will provide the DM with all information it possesses concerning the geological nature of the strata and the pressure of the well). If the total depth of the well is 4,000 feet or greater, the operator will completely clean out the well from the surface to at least 400 feet below the base of Jawbone Seam.

(2) When cleaning out the well, the operator will make a diligent effort to remove all of the casing in the well. If it is not possible to remove all of the casing, then the operator will take appropriate steps to ensure that the annulus between the casing and the well walls are filled with expanding (minimum of 0.2% expansion upon setting) cement and contain no voids from 200 feet (400 feet if the total well depth is 4,000 feet or greater) below the base of the Jawbone Seam up to 100 feet above the Jawbone Seam. If the casing cannot be removed at the Jawbone Seam level, perforations will be established at every 50 feet from 200 feet (400 feet if the total well depth is 4,000 feet or greater) below the base of the Jawbone Seam and up to 100 feet above the Jawbone Seam to allow placement of expanding cement. When multiple casing and tubing strings are present in the coal horizon(s), any casing which remains will be perforated and filled with expanding cement. An acceptable casing bond log for each casing and tubing string will be used in lieu of perforating multiple strings.

(3) If the DM concludes that the cleaned-out well is emitting excessive amounts of gas, a mechanical bridge plug or cap seal plug will be placed in the borehole in a competent stratum at least 200 feet (400 feet if the total well depth is 4,000 feet or greater) below the base of the Jawbone Seam but above the top of the uppermost gas-producing stratum, unless the DM requires greater distance due to the geological stratum or due to the pressure within the well (the operator will provide the DM with all information it possesses concerning the geological nature of the strata and the pressure of the well). If it is not possible to set a mechanical bridge plug or cap seal plug, an appropriate size packer or a substantial brush plug may be used in place of the mechanical bridge plug or cap seal plug.

(4) The operator will prepare down-hole logs for each well that will consist of a caliper survey and log(s) suitable for determining the top, bottom, and thickness of the Jawbone Seam and potential gas-producing strata and the location for the bridge plug. Alternatively, the operator may use a down-hole camera survey in lieu of down-hole logs. In addition, a journal will be maintained describing the depth of each material encountered, the nature of each material encountered; bit size and type used to drill each portion of the hole; length and type of each material used to plug the well; length of casing(s) removed, perforated or left in place, any sections where casing was cut or milled; and other pertinent information concerning cleaning and sealing the well.

(5) If the uppermost gas-producing stratum is within 300 feet of the base of the Jawbone Seam, properly placed mechanical bridge plugs or cap seal plugs or a suitable brush plug will be used to isolate the gas-producing stratum from the expanding cement plug. Nevertheless, a minimum of 200 feet (400 feet if the total well depth is 4,000 feet or greater) of expanding cement will be placed below the Jawbone Seam unless the DM requires a greater distance due to the geological strata, or due to the pressure within the well.

The petitioner proposes to use the following procedures for plugging coalbed methane wells that will not be fully plugged prior to mining-through:

(1) The operator will pump expanding cement slurry down the well to form a plug which runs from at least 200 feet (400 feet if the total well depth is 4,000 feet or greater) below the base of the Jawbone Seam (or lower if required by the DM due to the geological strata, or due to the pressure within the well) to a depth of approximately 10 feet below the Jawbone Seam. The expanding cement will be placed in the well under pressure of at least 200 pounds per square inch.

(2) The top of the coalbed methane well casing will be fitted with a non-conductive wellhead equipped as required by the DM. Such equipment may include check valves, shut-in valves, sampling ports, flame arrestor equipment, and security fencing.

(3) If the coalbed methane well is intended to be left un-grouted during the cut-through process, the entire portion of the well below the Jawbone Seam will be plugged.

The petitioner proposes to use the following procedures for plugging wells for use as degasification boreholes:

(1) The operator will pump expanding cement slurry down the well to form a plug which runs from at least 200 feet (400 feet if the total well depth is 4,000 feet or greater) below the base of the Jawbone Seam (or lower if required by the DM due to the geological strata, or due to the pressure within the well) and extends upward to a point above the top of the Jawbone Seam. The distance the cement plug extends upward above the Jawbone Seam will be based on the average height of the roof strata breakage for the mine.

(2) To facilitate methane drainage, degasification casing of suitable diameter, slotted or perforated throughout its lowest 150 to 200 feet, will be set in the borehole to a point 10 to 30 feet above the top of the expanding cement.

(3) The annulus between the degasification casing and the borehole wall will be cemented from a point immediately above the slots or perforations to the surface.

(4) The degasification casing will be cleaned out for its total length.

(5) The top of the degasification casing will be fitted with a wellhead equipped as required by the DM. Such equipment may include check valves, shut-in valves, sampling ports, flame resistor equipment, security fencing, etc.

The petitioner proposes to use the following procedures after approval has been granted by the District Manager to mine within the safety barrier or to mine through a plugged or replugged well:

(1) A representative of the operator, a representative of the miners, the appropriate State agency, or the MSHA DM may request that a conference be conducted prior to mining through any plugged or replugged well. The purpose of the conference will be to review, evaluate, and accommodate any abnormal or unusual circumstances related to the condition of the well or surrounding strata when such conditions are encountered.

(2) The operator will mine through a well on a shift approved by the DM. The operator will notify the DM and the miner's representative in sufficient time prior to mining-through a well to provide an opportunity to have representatives present.

(3) When using continuous mining methods, drivage sights will be installed at the last open crosscut near the place to be mined to assure intersection of the well. The drivage sights will not be more than 100 feet from the well. When using longwall-mining methods, drivage sights will be installed on 10-foot centers for a distance of 50 feet in advance of the wellbore. The drivage sights will be installed in the headgate and tailgate.

(4) A minimum of the following fire-fighting equipment, roof support supplies, and ventilation materials will be available and located at the last open crosscut on the intake side of the entry to cut into the well; three 20 pound CO2 fire extinguishers, 20 bags of rock dust, sufficient fire hose to reach the working face, one hand-held methane monitor capable of reading high percentages of methane, a multi-gas detector carried by both the foreman and the continuous miner operator, sufficient curtain to reach the working face, eight timbers with headers and wedges, and two emergency plugs. The water line will be maintained to the belt conveyor tailpiece along with a sufficient amount of fire hose to reach the farthest point of penetration on the section.

(5) Equipment will be checked for permissibility and serviced no earlier than the shift prior to mining through the well. Water sprays, water pressures, and water flow rates used for dust and spark suppression will be examined and any deficiencies will be corrected.

(6) The methane monitors on the longwall, continuous mining machine, or cutting machine and loading machine will be calibrated on the shift prior to mining the well.

(7) When mining is in progress, tests for methane will be made with a hand-held methane detector at least every 10 minutes from the time that mining with the continuous mining machine or longwall face is within 30 feet of the well until the well is intersected and immediately prior to mining through it. During the actual cutting process, no individual will be allowed on the return side until mine-through has been completed and the area has been examined and declared safe. All workplace examinations will be conducted on the return side of the shearer while the shearer is idle.

(8) When using continuous or conventional mining methods, the working place will be free from accumulations of coal dust and coal spillages, and rock dust will be placed on the roof, rib and floor to within 20 feet of the face when mining through the well. On longwall sections, rock dusting will be conducted and placed on the roof, rib and floor up to both the headgate and tailgate gob.

(9) When intersecting an un-grouted hydro-fractured coalbed methane well in the Jawbone Seam, a high negative pressure blower with a minimum of negative 50 psi static pressure will be installed at the surface of the well and activated before the active face is a minimum distance of 500 feet from the well. The blower will be deactivated when the active face is a distance of 25 feet from the well. Alternatively, pressurized water may be used in lieu of a blower. A volume of fresh water sufficient to fill the hydro-fractured zone and the vertical well to the surface will be injected into the well, and the water level will be supplemented as required. When the active face encounters water from the injected well, if necessary, the well will be bailed to approximately the Jawbone Seam level. During the cut-through process, the surface of the well will be maintained in an open position to bring the vertical section of the wellbore to outside atmospheric pressure.

(10) When the wellbore is intersected, all equipment will be de-energized and the place thoroughly examined and determined safe before mining is resumed.

(11) After a well has been intersected and the working place determined safe, mining will continue inby the well at a distance sufficient to permit adequate ventilation around the area of the well.

(12) If the casing is cut or milled at the coal seam level, the use of torches should not be necessary. However, in rare instances, torches may be used for inadequately or inaccurately cut or milled casings. No open flame will be permitted in the area until adequate ventilation has been established around the wellbore and methane levels of less than 1.0% are present in all areas that will be exposed to flames and sparks from the torch. The operator will apply a thick layer of rock dust to the roof, face, floor, ribs and any exposed coal within 20 feet of the casing prior to use of torches.

(13) Non-sparking (brass) tools will be located on the working section and will be used to expose and examine cased walls.

(14) No person will be permitted in the area of the mine-through operation except those actually engaged in the operation, company personnel, representatives of the miners, personnel from MSHA, and personnel from the appropriate State agency.

(15) The operator will alert all personnel in the mine to the planned intersection of the well prior to their going underground if the planned intersection is to occur during their shift. This warning will be repeated for all shifts until the well has been mined through.

(16) The mine-through operation will be under the direct supervision of a certified official. Instructions concerning the mine-through operation will be issued only by the certified official in charge.

(17) The petitioner will file a plugging certification setting forth the persons who participated in the work, a description of the plugging work, and a certification by the petitioner that the well has been plugged.

(18) All miners involved in the mine-through will be trained regarding the requirements of the proposed terms and conditions of this petition prior to mining within 150 feet of the next well intended to be mined through.

(19) Within 30 days after the decision becomes final, the petitioner will submit proposed revisions for its approved mine emergency evacuation and firefighting plan required by 30 CFR 75.1501. The petitioner will revise the plans to include the hazards and evacuation procedures to be used for well intersections. All underground miners will be trained in this revised plan within 30 days of the submittal of the revised evacuation plan.

The petitioner asserts that the proposed alternative methods will at all times guarantee no less than the same measure of protection afforded the miners as the existing standard.

Docket Number: M-2013-023-C.

Petitioner: San Juan Coal Company, P.O. Box 561, Waterflow, New Mexico 87421.

Mine: San Juan Mine 1, MSHA I.D. No. 29-02170, located in San Juan County, New Mexico.

Regulation Affected: 30 CFR 75.503 (Permissible electric face equipment; maintenance), (18.35(a)(5)(i) (Portable (trailing) cables and cords)).

Modification Request: The petitioner requests a modification of the existing standard to permit higher maximum lengths on various trailing cables for the three-phase, 995-volt shuttle cars. The petitioner proposes to use the following three optional methods of operation:

(1) Incorporate an inline breaker box with 500 feet of No. 2/0 American Wire Gauge (AWG) 2kV, Type SHD-GC cable from the section transformer with 850 Feet of No. 2 AWG 2kV, Type G+GC cable to the shuttle car.

(2) Incorporate a single length 1000-foot cable of No. 2 AWG 2kV, Type G+GC to the shuttle car from the section transformer.

(3) Incorporate 500 feet of No. 2/0 AWG 2kV, Type SHD-GC cable from the section transformer to a multi-circuit distribution box with 850 feet of No. 2 AWG 2kV, Type G+GC cable to the shuttle car. Two shuttle cars will be powered from the distribution box.

The petitioner states that:

(1) The one-line diagrams and short-circuit calculation models included in the calculations reflect the actual existing San Juan Mines high-voltage electrical distribution system and continuous miner section electrical power distribution to be utilized. All three of the petitioner's options of operation have been included in the one-line diagrams and short-circuit analysis.

(2) The shuttle cars are rated at 995 volts root mean square (RMS) nominal, three-phase, 60 hertz. The nominal voltage of the continuous mining machine section electrical distribution system will not exceed 1,000 volts and 480 volts for the respective section transformer secondary voltages. Actual voltage at which the circuits or systems operate may vary slightly from the nominal voltage within a range that permits satisfactory operation of the equipment.

The petitioner further states that:

The first optional method of operation will be as follows:

(1) The maximum length of the trailing cable supplying three-phase, 995-volt power to the inline shuttle car breaker box will not exceed 500 feet of No. 2/0 AWG, 3C, 2kV, SHD-GC cable.

(2) All circuit breakers located in the section transformer used to protect the No. 2/0 AWG, 3C, 2kV, SHD-GC trailing cables 500 feet in length and supply 995-volt, three-phase power to the shuttle car inline breaker box will have instantaneous trip unit(s) in the section transformer adjusted to trip at 1,500 amperes.

(3) Replacement circuit breakers and/or instantaneous trip units, used to protect No. 2/0 AWG, 3C, 2kV, SHD-GC cables will be set to 1,500 amperes. The maximum length of the trailing cable supplying three-phase, 995-volt power to the shuttle car will not exceed 850 feet of No. 2 AWG, 3C, 2kV, G+GC cable.

(4) All circuit breakers in the shuttle car inline circuit breaker box used to protect the No. 2 AWG, 3C, 2kV, G+GC shuttle car trailing cables that exceed 700 feet in length and supply 995-volt, three-phase power to the shuttle car will have instantaneous trip unit(s) calibrated to trip at 800 amperes. The trip setting of these circuit breaker(s) will be sealed, and these circuit breakers will have permanent, legible labels. The label will identify the circuit breaker(s) as being specially calibrated circuit breaker(s) and as being suitable for protection No. 2 AWG, 3C, 2kV, G+GC cables. This label will be maintained legible.

(5) Replacement circuit breakers and/or instantaneous trip units, used to protect the 995-volt, No. 2 AWG, 3C, 2kV, G+GC cables in the inline shuttle car breaker box will be calibrated to trip at 800 amperes and this setting will be sealed.

(6) The short-circuit calculations of print 75-503-001 ILB will include the inline breaker and enclosure that will power the shuttle car. The inline breaker box will be mounted near the section loading point and be supplied from the section transformer. There will be one inline breaker box for the shuttle car.

The second optional method of operation will be as follows:

(1) The maximum length of the trailing cable supplying three-phase, 995-volt power to the shuttle car from the section transformer will not exceed 1,000 feet of No. 2 AWG, 3C, 2kV, G+GC cable.

(2) All section transformer circuit breakers used to protect the No. 2 AWG, 3C, 2kV, G+GC trailing cables that exceed 700 feet in length and supply 995-volt, three-phase power to the shuttle car will have instantaneous trip unit(s) calibrated to trip at 800 amperes. The trip setting of these circuit breaker(s) will be sealed and will have permanent, legible labels. The label will identify the circuit breaker(s) as being specially calibrated circuit breaker(s) and as being suitable to protect No. 2 AWG, 3C, 2kV, G+GC cables. This label will be maintained legible.

(3) Replacement circuit breakers and/or instantaneous trip units, used to protect the 995-volt, No. 2 AWG, 3C, 2kV, G+GC cables will be calibrated to trip at 800 amperes and this setting will be sealed.

(4) The short-circuit calculations of print 75-503-002 SC will include power from the section transformer.

The third optional method of operation will be as follows:

(1) The maximum length of the trailing cable supplying three-phase, 995-volt power to the distribution box will not exceed 500 feet of No. 2/0 AWG, 3C, 2kV, SHD-GC cable.

(2) All circuit breakers located in the section transformer used to protect the No. 2/0 AWG, 3C, 2kV, SHD-GC trailing cables 500 feet in length and supply 995-volt, three-phase power to the distribution box will have instantaneous trip unit(s) in the section transformer set to trip at 1,500 amperes.

(3) Replacement circuit breakers and/or instantaneous trip units, used to protect No. 2/0 AWG, 3C, 2kV, SHD-GC cables will be set to trip at 1,500 amperes.

(4) The maximum length of the trailing cable supplying three-phase, 995-volt power to the shuttle car will not exceed 850 feet of No. 2 AWG, 3C, 2kV, G+GC cable.

(5) All circuit breakers in the distribution box used to protect No. 2 AWG, 3C, 2kV, G+GC shuttle car trailing cables that exceed 700 feet in length and supply 995-volt, three-phase power to the shuttle car will have instantaneous trip unit(s) calibrated to trip at 800 amperes. The trip setting of these circuit breaker(s) will be sealed, and these circuit breakers will have permanent legible labels. The label will identify the circuit(s) as being specially calibrated circuit breaker(s) and as being suitable to protect No. 2 AWG, 3C, 2kV, G+GC cables. This label will be maintained legible.

(6) Replacement circuit breakers and/or instantaneous trip units used to protect the 995-volt, No. 2 AWG, 3C, 2kV, G+GC cables in the distribution box will be calibrated to trip at 800 amperes and this setting will be sealed.

(7) The short-circuit calculations of print 75-503-003 DBB will include the distribution box that will power the shuttle cars. The distribution box will be mounted near the section loading point and be supplied from the section transformer. There will be one distribution box and it will power two shuttle cars.

The petitioner also states that:

(1) The short-circuit calculations that were performed show that the proposed alternative method will meet the following requirements:

(a) Each trailing cable will be protected by an automatic three-pole molded case circuit breaker equipped with a means to provide short-circuit, grounded-phase, under-voltage, and ground monitoring protection for its entire length.

(b) The trailing cable short-circuit protection will be provided by means of an adjustable instantaneous trip unit that is integral to the circuit breaker that is set as required by 30 CFR 75.601-1, or 75 percent of the minimum available fault current, whichever is less. The short-circuit calculations determine the minimum phase-to-phase fault current available for each cable size, type, and length desired to be extended to lengths greater than allowable by statutory provisions.

(2) The trailing cables for the three proposed optional methods of operation will be protected by being hung on well-installed insulated hangers from the section transformer to the inline shuttle car breaker box and to the shuttle car anchor under option 1, or from the section transformer to the shuttle car anchor under option 2, and from the section transformer to the distribution box and to the shuttle cars' anchors under option 3.

(3) During each production shift, persons designated by the operator will visually examine the trailing cables to ensure that the cables are in safe operating condition and that the instantaneous settings of the specially calibrated circuit breaker settings do not have seals broken or removed. The weekly inspection examination record of this requirement will be kept by the operator and made available to an authorized representative of the Secretary and to the miners in the San Juan Mine 1.

(4) Trailing cables that are not in safe operating condition will be removed from service immediately and repaired or replaced.

(5) Each splice or repair in the trailing cables to the inline breaker box, distribution box and shuttle car will be made in workman-like manner and in accordance with the instructions of the manufacturer of the splice or repair kit. The outer jacket of each splice or repair will be vulcanized with flame-resistant material or made with material that has been accepted by MSHA as flame-resistant.

(6) If the mining methods or operating procedures cause or contribute to the damage of any trailing cable, the cable will be removed from service immediately, repaired or replaced, and additional precautions will be taken to ensure that in the future, the cable is protected and maintained in safe operating condition.

(7) Permanent warning labels will be installed and maintained on the cover(s) of each specially calibrated circuit breaker indicating that the cable can only be connected to a circuit breaker that is set to trip at its pre-determined instantaneous value. The labels will warn miners not to change or alter the sealed short-circuit settings.

(8) The petitioner's proposed alternative method will not be implemented until all miners who have been designated to examine the integrity of seals, verify the short-circuit settings, and examine trailing cables for defects and damage have received training.

(9) Within 60 days after the proposed decision and order becomes final, the petitioner will submit proposed revisions for its approved 30 CFR part 48 training plan to the District Manager for the area where the mine is located. The proposed revisions will specify task training for miners designated to verify that the short-circuit settings of the specially calibrated circuit interrupting device(s) that protect the affected trailing cables do not exceed the specified setting(s). The training will include:

(a) The hazards of setting short-circuit interrupting device(s) too high to adequately protect the trailing cables; and

(b) How to verify that the circuit interrupting device(s) protecting the trailing cable(s) are properly set and maintained.

The petitioner asserts that the proposed alternative method will at all times provide an equal or higher degree of safety as provided by the existing standard.

Dated: June 10, 2013.
George F. Triebsch,
Director, Office of Standards, Regulations and Variances.

[FR Doc. 2013-14109 Filed 6-13-13; 8:45 am]

BILLING CODE 4510-43-P